DEPARTMENT OF TRANSPORTATION

Surface Transportation Board

[Docket No. FD 35756]

Hartwell Railroad Company—Construction of Connecting Track Exemption—in Elbert County, Ga.

Hartwell Railroad Company (Hartwell), a Class III railroad, has filed a verified notice of exemption under 49 CFR 1150.36 to construct approximately 1,360 feet of connecting track in Elbert County, Ga. (the Line), on land within existing railroad rights-of-way either owned by Hartwell or CSX Transportation, Inc. (CSXT). Hartwell is the proposed operator.

In 1995, Hartwell acquired approximately 48.3 miles of rail line from Norfolk Southern Railway Company (NSR) between Toccoa (milepost P 0.5) and Elberton (milepost 48.80), in Elbert, Franklin, Hart, and Stephens Counties, Ga.¹ At the time of the acquisition, Hartwell interchanged traffic with NSR at Toccoa on the west end of the Toccoa-Elberton Line. However, NSR retained about 1.9 miles of rail line between mileposts P 48.5 and P 50.4 that connected to the east end of the Toccoa-Elberton Line, which segment had been used to effect interchange with CSXT. NSR subsequently abandoned that segment.² Consequently, the abandonment severed Hartwell's close access to interchange with CSXT at Elberton, requiring Hartwell to interchange solely with NSR at Toccoa (where access to CSXT was 60 miles to the northeast and about 37 miles to the southwest).

¹ See Hartwell R.R.—Acquis. & Oper. Exemption—Line of Norfolk S. Ry., FD 32675 (ICC served Mar. 31, 1995).

² See Norfolk S. Ry.—Aban. Exemption—in Elberton, Ga., AB 290 (Sub-No. 158X) (ICC served Apr. 11, 1995).

Hartwell seeks to construct the Line to be able to re-establish an interchange between itself and CSXT at Elberton, located on CSXT's main line between Atlanta, Ga., and Greenwood, S.C. Hartwell states that the construction and operation of the Line will permit it to offer competitive alternatives to existing and future shippers on the Toccoa-Elberton Line. Hartwell adds that its customers will also benefit from the ability to use single-line service offered by CSXT to: (1) Reach points served by CSXT that NSR does not serve; and (2) eliminate the inefficiency that would otherwise involve three carriers (Hartwell, NSR, and CSXT) instead of two (Hartwell and CSXT) to reach points served solely by CSXT. Hartwell expects to handle one train per day in each direction over the new connection with CSXT.

In addition, Hartwell states that CSXT will construct a connection between the Line and the Atlanta-Greenwood Line in its right-of-way, and that Hartwell and CSXT have agreed to enter into an interchange agreement.

Construction is proposed to begin no earlier than 90 days after the filing of this notice of exemption.

Hartwell has certified that it has complied with the Board's environmental rules at 49 CFR 1105 and with the pre-filing notice requirements at 49 CFR 1150.36(c)(1).

Pursuant to 49 CFR 1150.36(d), Hartwell states that it has engaged the services of a third-party consultant who has been approved by the Board's Office of Environmental Analysis (OEA) and is acting under OEA's direction and supervision in the preparation of an Environmental Analysis (EA). Hartwell further states that the EA is nearing completion and is anticipated to be completed within the deadline contemplated by 49 CFR 1150.36.

Under 49 CFR 1150.36(c)(3), OEA will generally issue an EA 15 days after publication of the notice of exemption in the Federal Register (here by July 1, 2014). However, under 49 CFR 1150.36(c)(10), a stay of the effective date may be issued if an informed decision on environmental issues cannot be made prior to August 25, 2014.³ Interested persons may obtain a copy of the EA by writing to OEA (Room 1100, Surface Transportation Board, Washington, DC 20423-0001) or by calling OEA, at (202) 245-0304. [Assistance for the hearing impaired is available through the Federal Information Relay Service (FIRS) at 1-800-877-8339.] Comments on environmental and historic preservation matters must be filed within 30 days after the EA becomes available to the public.

³ See Exemption of Out-of-Service Rail Lines, 5 I.C.C.2d 377 (1989).

Upon completion of the environmental review, the Board will issue a decision addressing those matters and making the exemption effective at that time, if appropriate, subject to any necessary conditions, thereby allowing construction to begin.

This exemption will be effective on August 25, 2014, unless stayed. Petitions to stay that do not involve environmental issues must be filed by June 26, 2014. Petitions for reconsideration must be filed by July 7, 2014.

If the verified notice contains false or misleading information, the exemption is void ab initio. Petitions to revoke the exemption under 49 U.S.C. 10502(d) may be filed at any time. The filing of a petition to revoke will not automatically stay the transaction.

An original and 10 copies of all pleadings, referring to Docket No. FD 35756, must be filed with the Surface Transportation Board, 395 E Street SW., Washington, DC 20423-0001. In addition, a copy of each pleading must be served on Matthew D. Williams, 2215 Pilgrim Mill Circle, Cumming, GA 30041.

Board decisions and notices are available on our Web site at “WWW.STB.DOT.GOV.”

Decided: June 11, 2014.
By the Board, Rachel D. Campbell, Director, Office of Proceedings.
Jeffrey Herzig,
Clearance Clerk.

[FR Doc. 2014-14025 Filed 6-13-14; 8:45 am]

BILLING CODE 4915-01-P